DEPARTMENT OF JUSTICE

Antitrust Division

Notice Pursuant to the National Cooperative Research and Production Act of 1993—Telemanagement Forum

Notice is hereby given that, on May 30, 2003, pursuant to section 6(a) of the National Cooperative Research and Production Act of 1993, 15 U.S.C. 4301 et seq. (“the Act”), Telemanagement Forum (“the Forum”) has filed written notifications simultaneously with the Attorney General and the Federal Trade Commission disclosing changes in its membership status. The notifications were filed for the purpose of extending the Act's provisions limiting the recovery of antitrust plaintiffs to actual damages under specified circumstances. Specifically, Syndesis Limited, Richmond Hill, Ontario, Canada; NDLO/CIS, Baerum Post Terminal, Norway; Java Wireless Competency Centre, Singapore, Singapore; Omega-Reason, Ltd, Islikon, Switzerland; Colt Telecom Group, PLC, London, United Kingdom; Ki Consulting & Solutions AB, Sundsvall, Sweden; SupportSoft, Inc., Redwood City, CA; Infosys Technologies Ltd., Bangalore, India; Telecom Corporation of New Zealand, Wellington, New Zealand; Protek, Maidenhead, Berkshire, United Kingdom; Imagine Broadband Ltd, London, United Kingdom; William S. Greene, Fairview, TX; Stevens Institute of Technology-School of Technology Management, Hoboken, NJ; CSG Systems Inc., Englewood, CO; Comrise Technology, Hazlet, NJ; Schema Ltd., Herzila, Israel; SIGOS GmbH, Nuremburg, Germany; The MITRE Corporation, McLean, VA; Telformance, Valbonne, France; Defence Communication Services Agency-DCSA, Corsham, Wiltshire, United Kingdom; STROM Telecom, Prague East, Czech Republic; Atreus Systems, Ottawa, Ontario, Canada; Elematics, Beaverton, OR; Inteligentis Limited, Maidenhead, Berkshire, United Kingdom; Geoff Coleman, Sherwood Park, Alberta, Canada; University of Zagreb-Faculty of Organization and Informatics, Varazdin, Croatia; Marc Malaise, Weston, FL; Fundacao CPqD, Campinas, Brazil; e*Tezeract, Inc., LaJolla, CA; Lemur Networks, Inc., Eatontown, NJ; Mahindra-British Telecom Limited, Mumbai, India; Persistent Solutions, Jonkoping, Sweden; Tropic Networks Inc., Ottawa, Ontario, Canada; PT ExcelComindo Pratama, Jakarta, Indonesia; CGI Group Inc., Toronto, Ontario, Canada; Internap Network Services, Atlanta, GA; Aircom International, Redhill, Surrey, United Kingdom; Institute for Telecommunications Sciences-US Department of Commerce, Boulder, CO; Netprofits Limited, Englangen, Germany; Exigen Group, St. John, New Brunswick, Canada; St. Paul Venture Capital, Westboro, MA; Telewest Communication PLC, Woking, Surrey, United Kingdom; TCSI Corporation, Alameda, CA; T-Systems International GmbH, Frankfurt, Germany; CINTEL-The Colombian Telecommunications Research Center, Bogota, Colombia; SI-TECH Information Technology Ltd., Beijing, People's Republic of China; New Generations Operations, E. Windsor, NJ; Telexpertise De Mexico, S.A., Saltillo, Mexico; and Photuris, Inc., Piscataway, NJ have been added as parties to this venture.

The following existing members have changed their names: Convergere is now called Datamat S.p.A., Roma, Italy; CNI/NMG is now called Steleus Group, Inc., Limonest, France; Instituto Costarricense De Electricidad is now called ICE, Miami, FL; Omnitel Pronto Italia S.p.A. is now called Vodafone Omnitel S.p.A., Ivrea, Italy; Telecom & Technology is now called JT Venture Partners, Denville, NJ; Agilent is now called Agilent Technologies, Folsom, CA; Blaze Advisor is now called HNC Software, Falls Church, VA; Kapsch AG is now called Kapsch CarrierCom AG, Vienna, Austria; Verdonick, Klooster is now called Verdonick, Klooster & Associates, Zoetermeer, The Netherlands; Amdocs Ltd., is now called Amdocs, Amdocs Management Ltd., London, United Kingdom; Metasolv Software is now called MetaSolv Software, Inc., Plano, TX; Otto-Henning & Company is now called Otto, Henning & Company International Strategy Consultants GmbH, Frankfurt, Germany; PQ Africa is now called Comparex Africa, Gauteng, South Africa; Sigma Systems Group is now called Liberate Technologies, San Carlos, CA; HNC Software is now called Fair, Isaac and Company, Valbonne, France; MITRE Corporation is now called MITRE, Bedford, MA; TeleDanmark A/S is now called TDC, Copenhagen, Denmark; and Telia and Sonera is now called TeliaSonera, Helsinki, Finland.

The following company has reinstated its membership: Compaq Telcom, Sophia Antipolis Cedex, France.

The following members have cancelled or have had their memberships cancelled: Opening Technologies, McLean, VA; Mitsubishi Electric Corporation, Vilaine, France; JetStream Communications, San Jose, CA; Au-Systems, Stockholm, Sweden; Innovance Networks, Ottawa, Ontario, Canada; Intech Taiwan Corporation, Hsinchu, Taiwan; Movaz Networks, Norcross, GA; Extreme Networks, Pleasanton, CA; Ryan-Hankin-Kent, Inc., Palo Alto, CA; Etnoteam, Milano, Italy; GE Global Exchange Services, Gaithersburg, MD; Lynx Photonic Networks, Rosh Ha'Ayin, Israel; MDSI-Mobile Dat Solutions Inc., Aurora, CO; Credit Suisse First Boston, Zuerich, Switzerland; High Deal, Redwood Shores, CA; Lumos Technologies, Inc., Santa Monica, CA; US Interactive, Cupertino, CA; Equant, Atlanta, GA; Linmor Technologies, Nepean, Ontario, Canada; Lumos Technologies, Santa Monica, CA; Mahi Networks, Petaluma, CA; Opticom, Carmel, IN; Portal Software, Cupertino, CA; Wavesmith Networks, Acton, MA; Convergineering, Fair Haven, NJ; and Paul Short Consulting, Huddinge, Sweden.

No other changes have been made in either the membership or planned activity of the group research project. Membership in this group research project remains open, and the Forum intends to file additional written notifications disclosing all changes in membership.

On October 21, 1988, the Forum filed its original notification pursuant to section 6(a) of the Act. The Department of Justice published a notice in the Federal Register pursuant to section 6(b) of the Act on December 8, 1988 (53 FR 49615).]

The last notification was filed with the Department on July 24, 2002. A notice was published in the Federal Register pursuant to section 6(b) of the Act on September 18, 2002 (67 FR 58825).

Constance K. Robinson,
Director of Operations, Antitrust Division.

[FR Doc. 03-17912 Filed 7-15-03; 8:45 am]

BILLING CODE 4410-11-M